DEPARTMENT OF DEFENSE

Defense Acquisition Regulations System

48 CFR Part 252

Solicitation Provisions and Contract Clauses

CFR Correction

In Title 48 of the Code of Federal Regulations, Chapter 2, Parts 200 to 299, revised as of October 1, 2014, on page 493, in section 252.227-7013, in Alternate II, revise the clause date “(NOV 2009)” to read “(MAR 2011)”.

[FR Doc. 2015-23472 Filed 9-18-15; 8:45 am]

BILLING CODE 1505-01-D